DEPARTMENT OF DEFENSE

Department of the Navy

Supplemental Record of Decision for Surveillance Towed Array Sensor System Low Frequency Active (SURTASS LFA) Sonar

AGENCY: Department of the Navy, DoD.

ACTION: Notice of supplemental decision and availability.

SUMMARY: The Department of the Navy (DoN) reaffirms its August 15, 2012, Record of Decision to employ up to four Surveillance Towed Array Sensor System Low Frequency Active (SURTASS LFA) sonar systems with certain geographical restrictions and mitigation monitoring designed to reduce potential adverse effects on the marine environment, including operating LFA sonar systems in the waters in which the Hawaiian Islands Stock Complex of common bottlenose dolphins could occur. The August 15, 2012, Record of Decision implemented the preferred alternative, Alternative 2, identified in the 2012 Final Supplemental Environmental Impact Statement (FSEIS)/Supplemental Overseas Environmental Impact Statement (SOEIS) for SURTASS LFA sonar.

Following litigation challenging the adequacy of the 2012 FSEIS/FSOEIS, the District Court for the Northern District of California determined that the DoN failed to use the best available data when it determined potential impacts from the employment of SURTASS LFA sonar systems on one stock of common bottlenose dolphins in Hawaiian waters rather than the more current information that shows five stocks of common bottlenose dolphins in Hawaiian waters. Accordingly, DoN prepared a narrowly-tailored FSEIS/SOEIS to remedy this deficiency. The National Marine Fisheries Service was a cooperating agency in accordance with 40 CFR 1501.6 for the development of the narrowly-tailored FSEIS/FSOEIS.

SUPPLEMENTARY INFORMATION: The full text of the Record of Decision (ROD) is available for public viewing and download at http://www.surtass-lfa-eis.com. Single copies of the ROD are available upon request from SURTASS LFA Sonar SEIS/SOEIS Program Manager, 4350 Fairfax Drive, Suite 600, Arlington, VA 22203, or email: eisteam@surtass-lfa-com.

Dated: March 26, 2015.
P.A. Richelmi,
Lieutenant, Office of the Judge Advocate General, U.S. Navy, Alternate Federal Register Liaison Officer.

[FR Doc. 2015-07549 Filed 4-1-15; 8:45 am]

BILLING CODE CODE 3810-FF-P